DEPARTMENT OF ENERGY

Federal Energy Regulatory Commission

[Docket No. CP03-27-000]

Panhandle Eastern Pipe Line Company; Notice of Application

December 23, 2002.

Take notice that on December 16, 2002, Panhandle Eastern Pipe Line Company (Panhandle), P. O. Box 4967, Houston, Texas 77210-4967, filed in Docket No. CP03-27-000, an application pursuant to Section 7(b) of the Natural Gas Act (NGA), as amended, and Part 157 of the regulations of the Federal Energy Regulatory Commission (Commission), for authorization to abandon in place certain obsolete compressor units and appurtenant facilities, located at thirteen (13) of Panhandle's existing compressor stations in Kansas, Missouri, Illinois and Indiana, all as more fully set forth in the application which is on file with the Commission and open to public inspection. This filing is available for review at the Commission or may be viewed on the Commission's Web site at http://www.ferc.gov, using the “FERRIS” link. Enter the docket number excluding the last three digits in the docket number field to access the document. For assistance, please contact FERC Online Support at FERCOnlineSupport@ferc.gov or toll free at (866) 208-3676, or for TTY, contact (202) 502-8659.

Panhandle states that the fifty-nine compressor units proposed to be abandoned, with a net book value as of December 31, 2002 of $93,148 and totaling 68,200 HP, are obsolete and uneconomical to operate and are no longer needed due to changes in the operating configuration of its system since the units were initially installed. Panhandle states that 10 are field area horizontal and vertical compressor units and 49 are market area horizontal and vertical compressor units. Panhandle states that all above-ground gas and service piping to the units will be disconnected and sealed off and, as the opportunities arise, Panhandle states that it may either reuse the parts of the abandoned units for maintenance and repair of similar remaining units, or sell the equipment as salvage. Panhandle further states that the abandonment of these facilities will not result in the abandonment of service to any of Panhandle's existing shippers, nor will the proposed abandonment adversely affect Panhandle's ability to meet current service requirements.

Any questions concerning this application may be directed to William W. Grygar, Vice President, Rates and Regulatory Affairs, Panhandle Eastern Pipe Line Company, P. O. Box 4967, Houston, Texas 77210-4967, call (713) 989-7000 or fax (713) 989-1180.

There are two ways to become involved in the Commission's review of this project. First, any person wishing to obtain legal status by becoming a party to the proceedings for this project should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the Internet in lieu of paper; see 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

Comment Date: January 24, 2003.

Editorial Note: This document was received in the Office of the Federal Register on December 24, 2002.

Linwood A. Watson, Jr.,
Deputy Secretary.

[FR Doc. 03-1446 Filed 1-21-03; 8:45 am]

BILLING CODE 6717-01-P